DEPARTMENT OF COMMERCE

International Trade Administration

[A-580-878]

Certain Corrosion-Resistant Steel Products From the Republic of Korea: Final Results of Antidumping Duty Changed Circumstances Review

AGENCY: Enforcement and Compliance, International Trade Administration, Department of Commerce.

SUMMARY: On September 29, 2023, the U.S. Department of Commerce (Commerce) published the notice of initiation and preliminary results of a changed circumstances review (CCR) of the antidumping duty (AD) order on certain corrosion-resistant steel from the Republic of Korea (Korea). For these final results, Commerce continues to find that Dongkuk Coated Metal Co., Ltd., following a corporate organizational change in June 2023 (hereinafter, Dongkuk CM), is the successor-in-interest to the pre-reorganization Dongkuk Steel Mill Co., Ltd. entity (hereinafter, Old Dongkuk Steel). Therefore, Dongkuk CM is entitled to Old Dongkuk Steel's AD cash deposit rate with respect to entries of the subject merchandise in the above-referenced proceeding.

DATES: Applicable November 16, 2023.

FOR FURTHER INFORMATION CONTACT: William Horn, AD/CVD Operations, Office VIII, Enforcement and Compliance, International Trade Administration, U.S. Department of Commerce, 1401 Constitution Avenue NW, Washington, DC 20230; telephone: (202) 482-4868.

SUPPLEMENTARY INFORMATION:

Background

On September 29, 2022, Commerce published the Initiation and Preliminary Results,¹ finding that Dongkuk CM is the successor-in-interest to Old Dongkuk Steel, and should be assigned the same AD cash deposit rate assigned to Old Dongkuk Steel with respect to entries of subject merchandise in the above referenced proceeding.² In the Initiation and Preliminary Results, we provided all interested parties with an opportunity to comment and request a public hearing regarding our preliminary finding.³ Dongkuk CM submitted comments agreeing with our preliminary finding in full, and we received no other comments from interested parties.⁴ Additionally, we received no requests for a public hearing from interested parties.

¹ See Certain Corrosion-Resistant Steel Products from the Republic of Korea: Notice of Initiation and Preliminary Results of Antidumping Duty Changed Circumstances Review, 88 FR 67243 (September 29, 2023) (Initiation and Preliminary Results), and accompanying Preliminary Decision Memorandum.

² Id., 88 FR at 67243.

³ Id., 88 FR at 67245.

⁴ See Dongkuk CM's Letter, “Case Brief,” dated October 11, 2023.

Scope of the Order

The merchandise covered by the AD order is certain corrosion-resistant steel products from Korea. For a complete description of the scope, see the Preliminary Decision Memorandum.

Final Results of the Changed Circumstances Review

For the reasons stated in the Initiation and Preliminary Results, and because we received no contrary comments from interested parties challenging our preliminary finding, Commerce continues to find that Dongkuk CM is the successor-in-interest to Old Dongkuk Steel and is entitled to the same AD cash deposit rate as Old Dongkuk Steel with respect to entries of subject merchandise in the above-noted proceeding. Consequently, Commerce will instruct U.S. Customs and Border Protection to suspend liquidation of all shipments of subject merchandise produced and/or exported by Dongkuk CM and entered, or withdrawn from warehouse, for consumption on or after the publication date of this notice in the Federal Register at the AD cash deposit rate in effect for Old Dongkuk Steel. This cash deposit requirement shall remain in effect until further notice.

Administrative Protective Order

This notice serves as the only reminder to parties subject to administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216 and 351.221(c)(3).

Dated: November 8, 2023.
Abdelali Elouaradia,
Deputy Assistant Secretary for Enforcement and Compliance.

[FR Doc. 2023-25354 Filed 11-15-23; 8:45 am]

BILLING CODE 3510-DS-P